GENERAL SERVICES ADMINISTRATION

41 CFR Part 301-10

[FTR Amendment 2005-05; FTR Case 2005-303]

RIN 3090-AI13

Federal Travel Regulation; Transportation Expenses; Government-Furnished Automobiles (GFA)

AGENCY: Office of Governmentwide Policy, General Services Administration (GSA).

ACTION: Final rule.

SUMMARY: The General Services Administration (GSA) is amending the Federal Travel Regulation (FTR) by revising the mileage reimbursement rate reflecting costs of operating a Government-furnished automobile (GFA), and revising the table on how to determine distance measurements for travel. It also clarifies that, if determined to be advantageous to the Government, the employee may be reimbursed for mileage between the residence and office to a common carrier terminal, or from the residence directly to a common carrier terminal when on official travel requiring an overnight stay. An explanation of these changes is addressed in the “Supplementary Information” below.

The FTR and any corresponding documents may be accessed at GSA's website at http://www.gsa.gov/ftr.

DATES: Effective Date: October 20, 2005.

Applicability Date: FTR Part 301-10, § 301-10.310, as amended by this rule, is applicable for all travel performed on and after February 4, 2005.

FOR FURTHER INFORMATION CONTACT: The Regulatory Secretariat (VIR), Room 4035, GS Building, Washington, DC, 20405, (202) 208-7312, for information pertaining to status or publication schedules. For clarification of content, contact Ms. Umeki Gray Thorne, Office of Governmentwide Policy, Travel Management Policy, at (202) 208-7636. Please cite FTR Amendment 2005-05, FTR case 2005-303.

SUPPLEMENTARY INFORMATION:

A. Background

This final rule amends the Federal Travel Regulation (FTR) as follows:

• Revises the table in § 301-10.302.

• Revises the section heading in § 301-10.306 to clarify that an employee may be reimbursed for use of a privately owned vehicle for round-trip travel between the residence and office to a common carrier terminal, or from a residence directly to a common carrier terminal on travel requiring an overnight stay.

• Revises § 301-10.310, by increasing the current reimbursement rate of $0.270 per mile (when a GFA is available to an employee) to $0.285 per mile, and increasing the reimbursement rate of $0.105 per mile (when a GFA is assigned directly to an employee) to $0.125. In consultation with the GSA Fleet, these rates are based on updated data reflecting agency costs to operate a GFA.

B. Executive Order 12866

This is not a significant regulatory action and, therefore, was not subject to review under Section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Part 301-10

Government employees, Travel and transportation expenses.

Dated: May 27, 2005.
Stephen A. Perry,
Administrator of General Services.

For the reasons set forth in the preamble, under 5 U.S.C. 5701-5709, GSA amends 41 CFR part 301-10 as set forth below:

PART 301-10—TRANSPORTATION EXPENSES

1. The authority citation for 41 CFR part 301-10 is revised to read as follows:

Authority: 5 U.S.C. 5707; 40 U.S.C. 121(c); 49 U.S.C. 40118, Office of Management and Budget Circular No. A-126, “Improving the Management and Use of Government Aircraft.” Revised May 22, 1992.

§ 301-10.302 [Amended]

2. Amend § 301-10.302—

a. In the table, in the second column, in the first entry under the heading “The distance between your origin and destination is”, by revising the first entry to read “As shown in paper or electronic standard highway mileage guides, or the actual miles driven as determined from odometer readings.”; and

b. In the table, in the second column, in the second entry under the heading “The distance between your origin and destination is”, by revising the first sentence to read “As determined from charts issued by the Federal Aviation Administration (FAA).”

3. Amend § 301-10.306 by revising the section heading to read as follows:

§ 301-10.306 What will I be reimbursed if authorized to use a POV instead of a taxi between my residence and office to a common carrier terminal, or from my residence directly to a common carrier terminal on travel requiring an overnight stay?

§ 301-10.310 [Amended]

4. Amend § 301-10.310 in paragraph (a) by removing “vehicle” and “27.0 cents” and adding “automobile” and “28.5 cents” in its place, respectively; and by removing from paragraph (b) “10.5 cents” and adding “12.5 cents” in its place.

[FR Doc. 05-20216 Filed 10-19-05; 8:45 am]

BILLING CODE 6820-14-P